DEPARTMENT OF DEFENSE

Department of the Army, Corps of Engineers

DEPARTMENT OF THE INTERIOR

Fish and Wildlife Service

Notice of Intent To Prepare an Integrated Environmental Impact Statement/Environmental Impact Report/Feasibility Report for the South San Francisco Bay Shoreline Study: Alviso Ponds and Santa Clara County Interim Feasibility Study

AGENCY: Department of the Army, U.S. Army Corps of Engineers; Department of Defense; U.S. Fish and Wildlife Service, Department of the Interior.

ACTION: Notice of intent.

SUMMARY: Pursuant to the National Environmental Policy Act (NEPA) of 1969, as amended, the U.S. Army Corps of Engineers (Corps) and the U.S. Fish and Wildlife Service (USFWS) intend to prepare a joint project-level integrated Environmental Impact Statement (EIS)/Environmental Impact Report (EIR)/Feasibility Report, hereafter called the Report, to address the potential impacts of the first Interim Feasibility Study component of the South San Francisco Bay Shoreline Study, San Francisco Bay, CA. This study is closely interrelated with the ongoing South Bay Salt Ponds Restoration Project, discussed in the Notice of Intent dated November 9, 2004. It will function as a project-level EIS/EIR tiered under that programmatic EIS/EIR and will be issued subsequently to the programmatic document. The California State Coastal Conservancy (Conservancy) will be the lead agency under the California Environmental Quality Act (CEQA).

Federal Lead Agencies Proposed Actions and Related Programmatic EIS/EIR. The Corps, in cooperation with the USFWS, is proposing to study flood protection and ecosystem restoration for the Alviso portion of the South San Francisco Bay (South Bay) Salt Ponds and adjacent areas to determine whether there is a federal interest in constructing a project with flood protection and/or ecosystem restoration components in this area, and if so, to determine the optimum project to recommend to Congress for authorization. The Report will recommend a plan which will provide for long-term restoration for these salt ponds and adjacent areas as well as flood protection and recreation components, if these actions are justified under Federal criteria. The Report and its alternatives will be tiered to the programmatic EIS/EIR for the South Bay Salt Ponds Restoration Project.

One public scoping meeting will be held to solicit comments on the environmental effects of the range of potential projects and the appropriate scope of the Report. The public is invited to comment during this meeting on environmental issues to be addressed in the Report.

DATES: Written comments from all interested parties are encouraged and must be received on or before February 7, 2006.

ADDRESSES: Written comments and requests for information should be sent to Yvonne LeTellier, Project Manager, U.S. Army Corps of Engineers, 333 Market Street, 8th Floor, San Francisco, CA 94105-2197, or to Mendel Stewart, Refuge Manager, U.S. Fish and Wildlife Service, San Francisco Bay NWR Complex, P.O. Box 524, Newark, CA 94560.

FOR FURTHER INFORMATION CONTACT: Yvonne LeTellier, Project Manager, U.S. Army Corps of Engineers (415-977-8466) or Mendel Stewart, Refuge Manager, U.S. Fish and Wildlife Service, San Francisco Bay NWR Complex (510-792-0222). For questions concerning the CEQA aspects of the study, contact Brenda Buxton, California State Coastal Conservancy, 1330 Broadway, 11th Floor, Oakland, CA 94612, telephone: 510-286-0753.

SUPPLEMENTARY INFORMATION: On November 9, 2004, the USFWS and the Corps issued a Notice of Intent for the proposed South Bay Salt Ponds Restoration Project programmatic EIS/EIR. The Corps and the USFWS propose to integrate the planning process for the Alviso Pond and Santa Clara County Interim Feasibility Study component of the South San Francisco Bay Shoreline Study with the planning process for the South Bay Salt Ponds Restoration Project. The two projects include ecosystem restoration, flood protection, and public access components. However, the current Interim Feasibility Study is a project-level component of the South Bay Salt Pond Restoration Study and it will be tiered to the above-mentioned programmatic EIS/EIR. This Interim Feasibility Study and the Report to be prepared will only cover a portion of the larger geographic area addressed in the South Bay Salt Ponds programmatic EIS/EIR.

Project Description. South Bay Salt Ponds Restoration Project. The South Bay Salt Ponds Restoration Project area comprises 15,100 acres of salt ponds and adjacent habitants in South San Francisco Bay the USFWS and California Department of Fish and Game (CDFG) acquired from the Cargill Salt Company in 2003. USFWS owns and manages the 8,000-acre Alviso pond complex and the 1,600-acre Ravenswood pond complex. CDFG owns and manages the 5,500-acre Eden Landing pond complex.

The oversearching goal of the South Bay Salt Ponds Restoration Project is to restore and enhance wetlands in the South San Francisco Bay while providing for flood protection and wildlife-oriented public access and recreation. The following project objectives were adopted by the South Bay Salt Ponds Restoration Project's Stakeholder Forum which includes representatives of local governments, environmental organizations, neighboring landowners, businesses, and community organizations:

1. Create, restore, or enhance habitats of sufficient size, function, and appropriate structure to:

a. Promote restoration of native special-status plants and animals that depend on South San Francisco Bay habitat for all or part of their life cycles.

b. Maintain current migratory bird species that utilize existing salt ponds and associated structures such as levees.

c. Support increased abundance and diversity of native species in various South San Francisco Bay aquatic and terrestrial ecosystem components, including plants, invertebrates, fish, mammals, birds, reptiles and amphibians.

2. Maintain of improve existing levels of flood protection in the South Bay area.

3. Provide public access and recreational opportunities compatible with wildlife and habitat goals.

4. Protect or improve existing levels of water and sediment quality in the South Bay, and fully evaluate ecological risks that could be caused by restoration.

5. Implement design and management measures to maintain or improve current levels of vector management, control predation on special-status species, and manage the spread of non-native species.

6. Protect the services provided by existing infrastructure (e.g., power lines, railroads).

USFWS and CDFG reviewed the proposed project objectives to ensure compliance with legal mandates, such as compatibility of wildlife with public access. Two additional evaluation factors were identified in the Alternatives Development Framework for comparative analysis:

7. Cost Effectiveness: Consider costs of implementation, management, and monitoring so that planned activities can be effectively executed with available funding.

8. Environmental Impact: Promote environmental benefit and reduce impacts to the human environment.

The South Bay salt ponds are now being managed by the U.S. Fish and Wildlife Service and the California Department of Fish and Game under an Initial Stewardship Plan which was evaluated in a March 2004 Final EIS/EIR. The long-term restoration plan currently under evaluation in the ongoing programmatic NEPA/CEQA process may include general plans for the entire project area as well as detailed design plans for a specific Phase I project.

South San Francisco Bay Shoreline Study. The Corps plans to prepare a Feasibility Report integrated with anfsalt ponds of EIS/EIR for the South San Francisco Bay Shoreline Study: Alviso Ponds and Santa Clara County Interim Feasibility Study, pursuant to the following resolution by the U.S. House of Representatives Transportation and Infrastructure Committee, adopted July 24, 2002:

“Resolved by the Committee on Transportation and Infrastructure of the United States House of Representatives, that the Secretary of the Army is requested to review the Final Letter Report for the San Francisco Bay Shoreline Study, California, dated July 1992, and all related interims and other pertinent reports to determine whether modifications to the recommendations contained therein are advisable at the present time in the interest of tidal and fluvial flood damage reduction, environmental restoration and protection and related purposes along the South San Francisco Bay shoreline for the counties of San Mateo, Santa Clara and Alameda, California.”

The South San Francisco Bay Shoreline Study area extends along South San Francisco Bay and includes the Alviso, Ravenswood, and Eden Landing pond complexes which are described above, as well as additional shoreline and floodplain areas in the counties of Alameda, San Mateo, and Santa Clara. The Report referenced in this Notice of Intent would propose implementation of the findings of the first Interim Feasibility Study component of the Shoreline Study.

The area to be examined in the first Interim Study consists of 25 ponds in the Alviso pond complex on the shores of the South Bay in Fremont, San Jose, Sunnyvale and Mountain View, located in Santa Clara and Alameda counties, plus substantial adjacent areas which may need flood protection or which may be affected by flood protection or ecosystem restoration measures. The study area is bordered by San Francisco Bay and the operational salt ponds of Alameda County to the north and San Francisquito Creek on the west. To the south and east, the study area extends beyond the salt ponds to include all lands subject to inundation from a 100-year tidal flooding event. These additional lands are primarily urbanized areas in Palo Alto, Mountain View, Sunnyvale, and San Jose to the south, and urbanized lands in Milpitas and Fremont to the east. These lands are generally delineated on maps which are on file with the Corps of Engineers, San Francisco District. During the course of the study the exact delineation of which lands are subject to tidal inundation may be modified based on technical studies.

The Corps proposes to conduct the South San Francisco Bay Shoreline Study: Alviso Ponds and Santa Clara County Interim Feasibility Study in coordination with the South Bay Salt Ponds Restoration Project and in partnership with the USFWS, CDFG, Conservancy, and the Santa Clara Valley Water District. It is expected that the Corps's Report for the first Interim Feasibility Study component of the Shoreline Study will be released after the completion of the South Bay Salt Ponds Restoration Project programmatic EIS/EIR, so the EIS/EIR components of the Report for the Shoreline Study will tier off from the joint programmatic South Bay Salt Ponds EIS/EIR.

Public Involvement. The public scoping meeting will be held on Wednesday, January 25, 2006 at the Milpitas Library Community Room located at 40 North Milpitas Blvd., Milpitas, CA 95035 (408-262-1171), from 5:30-8:30 p.m. Persons needing reasonable accommodation in order to attend and participate in the public scoping meeting should contact Bill DeJager at 415-977-8670 at least one week in advance of the meeting to allow time for arrangements to be made.

Written comments may be sent to the addresses indicated in the Addresses section above, by facsimile to 415-977-8695, or via e-mail through the public comments link on the South Bay Salt Ponds Restoration Project Web site, located at http://www.southbayrestoration.org/Question_Comment.html. All comments received, including names and addresses, will become part of the administrative record and will be available to the public unless commenters request that this information not be released.

Alternatives. The Report will consider a range of alternatives and their impacts, including the No Action Alternative. Scoping will be an early and open process designed to determine the issues and alternatives to be addressed in the Report. For example, the range of alternatives may include varying mixes of managed ponds and tidal marsh habitat, varying levels and means of flood protection, and varying levels and means of recreation and public access components which respond to the Shoreline Study objectives.

Content of the Report. The Report will identify the anticipated effects of the project alternatives (detrimental and beneficial) and describe and analyze direct, indirect, and cumulative environmental impacts of the project alternatives, including the No Action Alternative, in accordance with NEPA (40 CFR 1500-1508) and CEQA. For each issue listed below, the EIS/EIR will include discussion of: The parameters used in evaluating the impacts as well as recommended mitigation; the effectiveness of mitigation measures proposed to be implemented; and any additional measures that would reduce the impacts to a less-than-significant level.

The list of issues presented below is preliminary both in scope and number. These issues are presented to facilitate public comment on the scope of the Report, and are not intended to be all-inclusive or a predetermination of impact topics to be considered.

Biological Resources. The Report will address the following issues and potential detrimental and beneficial impacts related to biological resources:

• Effects on population sizes of endangered species and other species of concern, including California clapper rail, snowy plover, California least tern, salt marsh harvest mouse, Chinook salmon and steelhead trout.

• Shift in populations and effects on population sizes of migratory waterfowl and shorebirds.

• Increased habitat connectivity for all organisms that use multiple marsh and/or aquatic habitats, including birds, mammals, and fish.

• Potential for improved habitat connectivity with adjacent upland habitats.

• Potential loss of hypersaline wetlands and their unique communities.

• Reduction in predation for species of concern with larger habitat blocks.

• Increased nursery habitat in wetlands for fish.

• Potential for salmonid entrainment into managed ponds.

• Effects of Spartina alterniflora and the hybrids of this species, and other invasive species.

• Effects of flood control structures on existing ecosystem attributes and functions including acquatic and terrestrial species.

• Effects of public access and recreation on aquatic and terrestrial species.

Hydrology and Flood Protection. The Report will address the following issues and potential detrimental and beneficial impacts related to hydrology and flood protection:

• Existing and future without-project tidal flood hazards as affected by fluvial inputs.

• Effects on the tidal regime and tidal mixing from project components, and related effects on salinity of Bay waters.

• Effects on high-tide water levels and resulting effects on flood hazards.

• Changes in tidal hydrodynamics, including tidal prism and tidal range in tidal sloughs, resulting changes in channel geometry and changes in tidal flood risks (including during project implementation).

• Effects on flood flow conveyance as a result of converting salt ponds to tidal marsh.

• Potential decrease in wave energy associated with tidal marsh restoration and reduced erosion of flood protection levees.

• Impacts on tidal flooding frequency and extent, and flood protection due to breaches in salt pond levees, improvement of existing levees, and construction of new levees.

• Impacts on groundwater quality.

Water and Sediment Quality. The Report will address the following issues and potential detrimental and beneficial impacts related to water and sediment quality:

• Effects of salt pond levee breaches, including changes in salinity, turbidity, dissolved oxygen, biochemical and biological oxygen demand, metals, polychlorinated biphenyls (PCBs), and other pollutants of concern.

• Changes in residence time of water in the South Bay and related effects on water quality.

• Changes in mercury and/or methyl mercury concentrations, and other pollutants of concern, in Bay and slough waters.

• Potential to mobilize existing sediment contaminants, including mercury, PCBs, and other pollutants of concern.

• Potential contamination from outside sources, including urban runoff, wastewater discharges, imported sediment and atmospheric deposition.

Recreation and Public Access. The Report will address the project's effects on existing recreation facilities and their use as well as the potential effects of expansion or creation of new facilities. The benefits and impacts of increased or decreased public access on biological resources and achievement of other project objectives will also be addressed.

Economics. The Report will evaluate the economic effects of the alternatives, including costs and benefits of flood protection, recreation, and effects on commercial fishing.

Cumulative Impacts. The Report will examine the cumulative impacts of past, ongoing, and reasonably foreseeable future projects affecting tidal marsh and estuarine habitats in the South Bay, as well as effects on adjacent urban and rural lands and communities.

Environmental Analysis Process. The Report will be prepared in compliance with NEPA and Council on Environmental Quality Regulations, contained in 40 CFR parts 1500-1508, and with CEQA, Public Resources Code Sec 21000 et seq. and the CEQA Guidelines as amended. Because requirements for NEPA and CEQA are somewhat different, the document must be prepared to comply with whichever requirements are more stringent. The Corps and the USFWS will be Joint Lead Agencies for the NEPA process and the Conservancy will be the Lead Agency for the CEQA process. In accordance with both CEQA and NEPA, these Lead Agencies are responsible for the scope, content, and legal adequacy of the document. The SCVWD will be a Responsible Agency under the provisions of CEQA. Therefore, all aspects of the Report scope and process will be fully coordinated between these four agencies.

The scoping process will include the opportunity for public input during one public meeting and by written comments submitted during the 30-day scoping period.

The draft Report will address public concerns associated with the issues identified in the scoping process and in subsequent public involvement and will be distributed for at least a 45-day public review and comment period. During this time, both written and verbal comments will be solicited on the adequacy of the draft Report. The final Report will address the comments received on the draft during public review and will be made available to all commenters on the draft Report. Copies of the draft and final reports will be posted on the Internet as part of the public review process.

The final step in the NEPA process is the preparation of a Record of Decision (ROD). This document is a concise summary of the decisions made by the Corps and the USFWS. The ROD will identify the alternative selected by the agencies and other alternatives that were considered. It also will discuss the mitigation measures that were adopted. Because there re two lead agencies, it is possible that each agency will prepare its own ROD.

The Record, or Records, of Decision may be published no earlier than thirty days after publication of the Notice of Availability of the final EIS/EIR. The final step in the CEQA process is certification of the CEQA document, which includes preparation of a Mitigation, Monitoring, and Reporting Plan and adoption of its findings, should the project be approved.

This notice is provided pursuant to regulations for implementing the National Environmental Policy Act of 1969 (40 CFR 1501.7 and 1506.6).

Dated: December 23, 2005.
John Engbring,
Acting Manager, California/Nevada Operations Office, U.S. Fish and Wildlife Service.
Philip T. Feir,
Lieutenant Colonel, Commanding, San Francisco District, U.S. Army Corps of Engineers.

[FR Doc. 06-102 Filed 1-5-06; 8:45 am]

BILLING CODE 3710-19-M